CORPORATION FOR NATIONAL AND COMMUNITY SERVICE

Sunshine Act Notice

The Board of Directors of the Corporation for National and Community Service gives notice of the following meeting:

DATE AND TIME: Monday, August 12, 2019, 12:30 p.m.-1:30 p.m. (ET).

PLACE: Corporation for National and Community Service, 250 E Street SW, Suite 4026, Washington, DC 20525. Please go to the first floor lobby for escort.

Call-In Information: This meeting is available to the public by conference call to toll-free number 877-917-3613, using access code 3899107. Any interested member of the public may call this number and listen to the meeting. Callers may be charged for mobile phone calls, and CNCS will not refund any incurred charges. There is no charge for calls made by landline to the toll-free number. Call replays are generally available one hour after a call ends. A replay will be available through August 26, 2019 at 800-925-2994.

STATUS: Open.

MATTERS TO BE CONSIDERED:

I. Chair's Opening Comments

II. CEO Report

III. Public Comments

IV. Final Comments and Adjournment

Members of the public who would like to comment on the business of the Board may do so in writing or in person. Individuals may submit written comments to ssoper@cns.gov with the subject line: “Comments for August 12, 2019 CNCS Board Meeting” by 5:00 p.m. (ET) on August 5, 2019. Individuals attending the meeting in person who would like to comment will be asked to sign in when they arrive. Comments are requested to be limited to two minutes.

Reasonable Accommodation: The Corporation for National and Community Service provides reasonable accommodation to individuals with disabilities where appropriate. Anyone who needs an interpreter or other accommodation should notify Sandy Scott at sscott@cns.gov or 202-606-6724 by 5:00 p.m. (ET) on August 5, 2019.

CONTACT PERSON FOR MORE INFORMATION: Sandy Scott, Corporation for National and Community Service, 250 E Street SW, Washington, DC 20525. Phone: 202-606-6724. Fax: 202-606-3460. TTY: 800-833-3722. Email: sscott@cns.gov.

Helen Serassio,
Deputy General Counsel.

[FR Doc. 2019-16310 Filed 7-26-19; 4:15 pm]

BILLING CODE 6050-28-P